DEPARTMENT OF COMMERCE

National Oceanic and Atmospheric Administration

Proposed Information Collection; Comment Request; Economic Performance in the Commercial Stone Crab and Lobster Fisheries in Florida

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 27, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Jim Waters, (252) 728-8710 or Jim.Waters@noaa.gov.

SUPPLEMENTARY INFORMATION:

I. Abstract

The National Marine Fisheries Service proposes to collect socio-economic data from commercial fishermen in Florida's stone crab and lobster fisheries. The survey intends to collect economic information about revenues, variable and fixed costs, capital investment and other auxiliary and demographic information. The data gathered will be used to describe economic performance and to evaluate the socio-economic impacts of future Federal regulatory actions. The information will improve fishery management decision making and satisfy legal requirements under Executive Order 12866, the Magnuson-Stevens Fishery Conservation and Management Act (U.S.C. 1801, et seq.), the Regulatory Flexibility Act, the Endangered Species Act, the National Environmental Policy Act, and other pertinent statutes.

II. Method of Collection

The Southeast Fisheries Science Center plans to conduct approximately 150-175 voluntary, in-person interviews from approximately 1,000 commercial stone crab and lobster fishermen who do not live in the Florida Keys. A stratified random sampling strategy will be employed, with strata defined by county.

III. Data

OMB Number: None.

Form Number: None.

Type of Review: Regular submission.

Affected Public: Business or other for-profit organizations.

Estimated Number of Respondents: 175.

Estimated Time Per Response: 1 hour.

Estimated Total Annual Burden Hours: 175.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 21, 2006.
Gwellnar Banks,
Management Analyst, Office of the Chief Information Officer.

[FR Doc. E6-15733 Filed 9-25-06; 8:45 am]

BILLING CODE 3510-22-P